DEPARTMENT OF HOMELAND SECURITY

33 CFR Part 151

[USCG-2004-19621]

RIN 1625-AA89

Dry Cargo Residue Discharges in the Great Lakes; Correction

AGENCY: Coast Guard, DHS.

ACTION: Notice of inquiry; correction.

SUMMARY: The Coast Guard published a document in the Federal Register of December 27, 2004, requesting information about the current status of dry cargo operations on the Great Lakes. The document contained an incorrect ACTION caption.

FOR FURTHER INFORMATION CONTACT: Lieutenant Commander Mary Sohlberg, U.S. Coast Guard, Environmental Standards Division, telephone: (202) 267-0713, e-mail: msohlberg@comdt.uscg.mil.

Correction

In the Federal Register of December 27, 2004, in FR Doc. 04-28227, (69 FR 77147), correct the ACTION caption to read:

ACTION: Notice of inquiry.

Dated: December 30, 2004.
David L. Nichols,
CDR, USCG Chief, Office of Regulations and Administrative Law, Acting.

[FR Doc. 05-215 Filed 1-6-05; 8:45 am]

BILLING CODE 4910-15-P